DEPARTMENT OF COMMERCE

National Oceanic and Atmospheric Administration

[Docket No. 021127289-3042-02 I.D. 091002E]

RIN 0648-ZB34

Financial Assistance for Research and Development Projects in the Gulf of Mexico and off the U.S. South Atlantic Coastal States; Cooperative Research Program (CRP); Revision

AGENCY: National Marine Fisheries Service (NMFS), National

Oceanic and Atmospheric Administration (NOAA), Commerce.

ACTION: Notice.

SUMMARY: The National Marine Fisheries Service (NMFS) publishes this notice to revise an action entitled “Notice of Solicitation for Applications” to extend the due date for Applications.

ADDRESSES: You can obtain an application package from, and send your completed applications to: Ellie Francisco Roche, Chief, State/Federal Liaison Office, Southeast Regional Office, NMFS, 9721 Executive Center Drive, N., St. Petersburg, FL 33702. You can also obtain the application package from the SERO homepage at: http://caldera.sero.nmfs.gov/grants/programs/. You must submit one igned original and two copies of the completed application (including supporting information). We will accept neither facsimile applications, nor electronically forwarded applications.

FOR FURTHER INFORMATION CONTACT: Ellie Francisco Roche, Chief, State/Federal Liaison Office, (727)570-5324.

SUPPLEMENTARY INFORMATION: The National Marine Fisheries Service (NMFS) published a notice soliciting applications for financial assistance in the Federal Register of December 17, 2002 (67 FR 77235), entitled “Notice of Solicitation for Applications.” Page 77235 of that Federal Register notice is revised. The DATES section should be revised to read as follows:

“DATES: We must receive your application by close of business (5 p.m. eastern standard time) on March 5, 2003]. Applications received after that time will not be considered for funding. Applications received from February 19, 2003 through that date will be treated as having been received in a timely manner.”

You should consult the December 17, 2002, notice for all of the other requirements for submitting an application.

Dated: February 25, 2003.
Rebecca Lent,
Deputy Assistant Administrator for Regulatory Programs, National Marine Fisheries Service.

[FR Doc. 03-4817 Filed 2-25-03; 3:58 pm]

BILLING CODE 3510-22-S